DEPARTMENT OF THE INTERIOR

Minerals Management Service

Outer Continental Shelf (OCS), Alaska OCS Region, North Aleutian Basin, Proposed Oil and Gas Lease Sale 214

AGENCY: Minerals Management Service (MMS), Interior.

ACTION: Notice of scoping meetings and extension of scoping period to prepare an Environmental Impact Statement (EIS).

SUMMARY: As part of the National Environmental Policy Act (NEPA) scoping process for the EIS on the proposed North Aleutian Basin OCS Oil and Gas Lease Sale 214, MMS has scheduled seven scoping meetings for August and September of 2008 to provide opportunity for public participation in the scoping process from communities within the vicinity of the North Aleutian Basin Planning Area. In addition, the MMS is announcing an extension of the deadline for submission of written scoping comments along with this public scoping meeting schedule.

DATES: The MMS has extended the deadline for submission of written scoping comments for the EIS to October 17, 2008. Scoping comments must be received no later than October 17, 2008, to be included in the Scoping Report. See SUPPLEMENTARY INFORMATION section for public scoping meeting dates.

ADDRESSES: Written scoping comments should be mailed to: Minerals Management Service, Alaska Region, 3801 Centerpoint Drive, Suite 500, Anchorage, AK 99503-5823. Submittals should be labeled “Attn: Sale 214 NOI.” Comments may also be submitted via e-mail to: sale214NOI@mms.gov. Please include “Attn: NAB Lease Sale 214 NOI” in the subject line and your name and return address in the body of the message.

FOR FURTHER INFORMATION CONTACT: Dr. Cleve Cowles, Regional Supervisor, Office of Leasing and Environment, Minerals Management Service, Alaska OCS Region, 3801 Centerpoint Drive #500, Anchorage, Alaska 99503-5820, phone (907) 334-5230.

SUPPLEMENTARY INFORMATION FOR THE SCOPING PROCESS: The Minerals Management Service (MMS) announced a Call for Information and Nominations (Call) and Notice of Intent (NOI) to prepare an EIS for Sale 214 in the North Aleutian Basin in Federal Register Notice Vol. 73, No. 68, Page No. 19095, dated April 8, 2008. Proposed lease sale 214 is that subarea of the larger North Aleutian Basin Planning Area identified in the OCS Oil and Gas Leasing Program for 2007-2012. Readers are cautioned that this announcement is not a decision to hold a lease sale, but rather a continuation of the information gathering and evaluation process.

The EIS analysis will focus on the potential environmental effects of oil and gas exploration, development, and production in the proposed sale area and its vicinity. The Notice of Intent announced the initiation of the scoping process for the EIS, with public comments due July 7, 2008. The MMS has extended the deadline for submission of written scoping comments for the EIS to October 17, 2008 and has scheduled public scoping meetings to provide opportunity for public participation in the NEPA process.

Although the formal public scoping process will conclude on October 17, 2008, the MMS will continue to consider new information throughout the preparation of the EIS. Information about proposed OCS Oil and Gas Lease Sale 214 in the North Aleutian Basin Planning Area offshore of the State of Alaska was published in Federal Register Notice Vol. 73, No. 68, No. 19095, dated April 8, 2008. Additional information on proposed lease sale 214 is on the MMS Web site: http://www.mms.gov.

1. Notice of Public Scoping Meetings. The MMS has scheduled seven public scoping meetings on the following dates and locations:

(1) August 18, 2008, 7 p.m. to 9:30 p.m., King Salmon, AK, Lake and Peninsula Borough Administration Building.

(2) August 19, 2008, 11 a.m. to 1 p.m., Naknek, AK, Bristol Bay Borough Assembly Chambers.

(3) September 2, 2008, 7 p.m. to 9:30 p.m., Dillingham, AK, City Council Chambers.

(4) September 15, 2008, 7 p.m. to 9:30 p.m., Sand Point, AK, Aleutians East Borough Offices.

(5) September 16, 2008, 11 a.m. to 1 p.m., Nelson Lagoon, AK, Nelson Lagoon Community Building.

(6) September 16, 2008, 7 p.m. to 9:30 p.m., Cold Bay, AK, Cold Bay Community Center.

(7) September 17, 2008, 7 p.m. to 9:30 p.m., King Cove, AK, King Cove City Council Chambers.

Federal, State, Tribal, and local governments and other interested parties help the MMS to determine significant issues, reasonable alternatives, potential mitigation measures to be analyzed in the EIS, as well as relevant information sources and recommendations for additional information. Alternatives include, at a minimum, the proposed action and taking no action. Alternatives developed through the scoping and analytical processes would be considered in the decision-making process.

2. Background Information. In addition to the seven public scoping meetings planned for August and September 2008, the MMS held three public scoping meetings for proposed Lease Sale 214 in the communities of Dutch Harbor/Unalaska, Kodiak, and Anchorage in May and June 2008.

The MMS makes comments, including names and addresses of respondents, available for public review. Individual commenters may request that MMS withhold their addresses from the public record. MMS will honor such requests to the extent allowable by law. There may also be circumstances in which the MMS would withhold identity, as allowable by law. If an individual would like the MMS to withhold their name and/or address, this must be stated prominently at the beginning of the comment. The MMS will not consider anonymous comments. Submissions from organizations, businesses, individuals identified as representatives, or officials of organizations and/or businesses will be made available for public inspection in their entirety.

Additional information may be found at the following Web site: http://www.mms.gov/alaska/re/index.htm.

Dated: July 3, 2008.
John T. Goll,
Regional Director, Alaska OCS Region.

[FR Doc. E8-18709 Filed 8-12-08; 8:45 am]

BILLING CODE 4310-MR-P